DEPARTMENT OF ENERGY

Federal Energy Regulatory Commission

[Docket No. CP23-214-000]

Columbia Gas Transmission, L.L.C.; Notice of Schedule for the Preparation of an Environmental Assessment for the Greenwood and North Greenwood Storage Fields Abandonment Project

On April 21, 2023, Columbia Gas Transmission, L.L.C. (Columbia) filed an application in Docket No. CP23-214-000 requesting an Authorization pursuant to section 7(b) of the Natural Gas Act to abandon certain natural gas pipeline facilities. The proposed project is known as the Greenwood and North Greenwood Storage Fields Abandonment Project (Project) and would authorize Columbia to abandon all active pipelines, facilities, and appurtenances at the Greenwood and North Greenwood Storage Fields. According to Columbia, the abandonment of these facilities would reduce future integrity risks at the fields and the overall safety risk to its system.

On May 5, 2023, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA—October 27, 2023

90-day Federal Authorization Decision Deadline ²—January 25, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Columbia proposes to abandon its Greenwood and North Greenwood Storage Fields, including all active associated pipelines, facilities, and appurtenances, in Steuben County, New York. The Project would consist of the abandonment of eight wells, three miles of storage lines, one compressor station, and associated appurtenances. Abandonment of the proposed facilities would temporarily disturb about 25.8 acres of land. This includes about 15.5 acres of existing easements, 3.8 acres of existing access roads, 3.6 acres of existing facility space, and 2.8 acres of temporary workspaces.

Background

On May 15, 2023, the Commission issued a Notice of Scoping Period Requesting Comments on Environmental Issues for the Proposed Greenwood and North Greenwood Storage Fields Abandonment Project (Notice of Scoping). The Notice of Scoping was sent to affected landowners; federal, state, and local government agencies; elected officials; environmental and public interest groups; Native American tribes; other interested parties; and local libraries and newspapers. In response to the Notice of Scoping, the Commission received comments from the New York State Department of Environmental Conservation. The primary issues raised by the commenter are facilities abandonment procedures, air quality, threatened and endangered species, and state permits. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

Additional information about the Project is available from the Commission's Office of External Affairs at (866) 208-FERC or on the FERC website (www.ferc.gov). Using the “eLibrary” link, select “General Search” from the eLibrary menu, enter the selected date range and “Docket Number” excluding the last three digits (i.e., CP23-214), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 15, 2023.
Kimberly D. Bose,
Secretary.

[FR Doc. 2023-13266 Filed 6-21-23; 8:45 am]

BILLING CODE 6717-01-P